DEPARTMENT OF STATE

[Public Notice 4869]

Charter for the Enterprise for the Americas Board

Approval of a charter for advisory committee: This notice is published in accordance with the provisions of the Federal Advisory Committee Act (Pub. L. 92-463), and advises of the approval of a charter for the Enterprise for the Americas Board.

Purpose of the advisory committee: The Enterprise for the Americas Board advises the Secretary of State on the negotiations of the Enterprise for the Americas Framework and Tropical Forest Conservation Act Agreements. In addition, the Board, in consultation with appropriate governmental and nongovernmental representatives, helps ensure that a suitable administering body is identified for each fund in-country created under these agreements. Finally, the Board reviews the programs, operations and fiscal audits of each administering body.

Contact for information: The Bureau of Oceans and International Environmental and Scientific Affairs, Office of Ecology and Terrestrial Conservation is the organization within the Department of State supporting this advisory committee. For additional information, contact Linda Allen, Department of State, 2201 C St., NW., Washington DC 20204, telephone (202) 647-3710.

Dated: May 16, 2005.
Patricia S. Harrison,
Assistant Secretary, Bureau of Educational and Cultural Affairs, Department of State.

[FR Doc. 05-11283 Filed 6-6-05; 8:45 am]

BILLING CODE 4710-09-P